FEDERAL RESERVE SYSTEM

Formations of, Acquisitions by, and Mergers of Bank Holding Companies; Correction

This notice corrects a notice (FR Doc. E7-243) published on pages 1332 and 1333 of the issue for Thursday, January 11, 2007.

Under the Federal Reserve Bank of Chicago heading, the entry for Grant Count State Bancshares, Inc. Employee Stock Ownership Plan, Swayzee, Indiana, is revised to read as follows:

A. Federal Reserve Bank of Chicago (Patrick M. Wilder, Assistant Vice President) 230 South LaSalle Street, Chicago, Illinois 60690-1414:

1. Grant County State Bancshares, Inc. Employee Stock Ownership Plan, Swayzee, Indiana, to retain control of Grant County State Bancshares, Inc., Swayzee, Indiana, as a result of a stock redemption, and thereby indirectly retain control of Grant County State Bank, Swayzee, Indiana.

Comments on this application must be received by February 5, 2007.

Board of Governors of the Federal Reserve System, January 29, 2007.
Robert deV. Frierson,
Deputy Secretary of the Board.

[FR Doc. E7-1637 Filed 1-31-07; 8:45 am]

BILLING CODE 6210-01-S